DEPARTMENT OF THE INTERIOR

Bureau of Land Management

[MT-030-1320-EL, NDM91535]

West Mine Area, Freedom Mine Coal Lease Application, North Dakota

AGENCY: Bureau of Land Management, Interior.

ACTION: Notice of availability (NOA) of record of decision.

SUMMARY: The Bureau of Land Management (BLM) announces the availability of the Record of Decision (ROD) for the Environmental Impact Statement (EIS) for the West Mine Area, Freedom Mine Coal Lease Application. The EIS analyzed the potential impacts of leasing and mining federal coal on lands in Mercer County, North Dakota. BLM's decision was to approve the implementation of Alternative C, which analyzed the impacts of offering for competitive lease sale approximately 5,334 acres containing approximately 89 million tons of recoverable lignite coal. Alternative C incorporates a preservation component for Native American cultural resources by bypassing approximately 237 acres and an estimated 4 million tons of federal coal which would have been leased under Alternative A (the Proposed Action Alternative). Alternative C also allows for the recovery of federal coal which would be bypassed if not leased under Alternative B (the No Action Alternative).

The BLM received 26 written comments on the draft EIS. These comments and BLM's responses to them were included in the final EIS. All of the comments and the transcript of the formal hearing are on file in the Dickinson, ND and Billings, MT Offices of the BLM. BLM also received 13 written comments on the final EIS. All of the comments received during the process were considered in the preparation of the EIS and/or the Record of Decision.

BLM Notices of Availability for the draft EIS and for the final EIS were published in the Federal Register on April 30, 2004 (Volume 69, Number 84), and August 26, 2005 (Volume 70, Number 165).

DATES: The ROD was signed by the Field Manager (NDFO) on November 1, 2005, and by the Montana State Director on November 3, 2005. Parties in interest have the right to appeal that decision pursuant to 43 CFR part 4, within 30 days from the date of publication of this NOA in the Federal Register. The ROD contains instructions on taking appeals to the Interior Board of Land Appeals.

FOR FURTHER INFORMATION CONTACT: Allen J. Ollila, phone: (701) 227-7735. Copies of the ROD may be obtained from the following BLM offices: North Dakota Field Office, 2933 3rd Avenue West, Dickinson, North Dakota 58601, (701) 227-7700; and Montana State Office, 5001 Southgate Drive, Billings, Montana 59107, (406) 896-5006.

Lonny R. Bagley,
North Dakota Field Office Manager.

[FR Doc. E5-7835 Filed 12-23-05; 8:45 am]

BILLING CODE 4310-$$-P